DEPARTMENT OF LABOR

Office of the Secretary

Submission for OMB Review; Comment Request

October 22, 2002.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or e-mail Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Representative Fee Request.

OMB Number: 1215-0078.

Affected Public: Business or other-for-profit and individuals or households.

Frequency: On Occasion.

Estimated Time Per Response and Total Burden Hours:

Fee requests | Total respondents | Total annual responses | Minutes per response (average) | Estimated total burden (hours)
Longshore | 9,700 | 9,700 | 30 | 4,850
FECA | 3,000 | 3,000 | 60 | 3,000
Total | 12,700 | 12,700 |  | 7,850

Total Annualized Capital/Startup Costs: $0.

Total Annual Costs (operating/maintaining systems or purchasing services): $17,215.

Description: Individuals filing for compensation benefits with the Office of Workers' Compensation Programs (OWCP) may be represented by an attorney or other representative. The representative is entitled to request a fee for services under the Federal Employees' Compensation Act (FECA), Regulations 20 CFR 10.702, and under the Longshore and Harbor Workers' Compensation Act (LSHWC), 20 CFR 702.132. The fee must be approved by the OWCP before the representative can make any demand for payment. If the information were not collected, OWCP would be unable to properly evaluate applications for representatives' fees.

Ira L. Mills,
Departmental Clearance Officer.

[FR Doc. 02-27869 Filed 10-31-02; 8:45 am]

BILLING CODE 4510-CH-P